DEPARTMENT OF ENERGY

Federal Energy Regulatory Commission

[Project No. 2302-101]

Brookfield White Pine Hydro, LLC; Notice of Intent To Prepare an Environmental Assessment

On August 28, 2024, Brookfield White Pine Hydro, LLC (Brookfield) filed a relicense application for the 28.44-megawatt Lewiston Falls Hydroelectric Project No. 2302 (project). The existing project is located on the Androscoggin River in the cities of Auburn and Lewiston and the town of Durham, in Androscoggin County, Maine. The project does not occupy federal lands.

In accordance with the Commission's regulations, on May 15, 2025, Commission staff issued a notice that the project was ready for environmental analysis (REA Notice). Staff intends to prepare a draft and final Environmental Assessment (EA) on the application to relicense the project.¹

¹ For tracking purposes under the National Environmental Policy Act, the unique identification number for documents relating to this environmental review is EAXX-019-20-000-1753881652.

The EA will be issued and circulated for review by all interested parties. All comments filed on the EA will be analyzed by staff and considered in the Commission's final licensing decision.

The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues Draft EA | January 13, 2026
Commission issues Final EA | May 29, 2026

Any questions regarding this notice may be directed to Lauren Townson at (202) 502-8572 or Lauren.Townson@ferc.gov.

Dated: July 30, 2025.
Carlos D. Clay,
Deputy Secretary.

[FR Doc. 2025-14697 Filed 8-1-25; 8:45 am]

BILLING CODE 6717-01-P